DEPARTMENT OF VETERANS AFFAIRS

Wait-Time Goals of the Department for the Veterans Choice Program

AGENCY: Department of Veterans Affairs.

ACTION: Notice.

SUMMARY: In an interim final rule published by the Department of Veterans Affairs (VA) implementing the Veterans Choice Program (“the Program”) authorized by the Veterans Access, Choice, and Accountability Act of 2014, VA established start dates for participation in the Program for different groups of veterans depending upon their basis of eligibility to participate in the Program. In those regulations, VA stated that veterans who are eligible based upon being unable to schedule an appointment within the wait-time goals of the Veterans Health Administration, will be able to start receiving hospital care and medical services under the Program no later than December 5, 2014. VA also stated that if the start date for these veterans would be sooner than December 5, 2014, VA would publish a notice in the Federal Register advising the public of the faster implementation schedule. This Notice announces that November 17, 2014, is the start date for veterans eligible to participate in the Program.

FOR FURTHER INFORMATION CONTACT: Kristin Cunningham, Director, Business Policy, Chief Business Office (10NB), Veterans Health Administration, Department of Veterans Affairs, 810 Vermont Avenue NW., Washington, DC 20420, (202) 382-2508. (This is not a toll-free number.)

SUPPLEMENTARY INFORMATION: In an interim final rule published by VA implementing the Veterans Choice Program (“the Program”) authorized by section 101 of the Veterans Access, Choice, and Accountability Act of 2014 (Pub. L. 113-146, “the Act”), VA established start dates for participation in the Program for different groups of veterans depending upon their basis of eligibility to participate in the Program. In those regulations, at 38 CFR 17.1525(a)(2), VA stated that veterans who are eligible under § 17.1510(b)(1), based upon being unable to schedule an appointment within the wait-time goals of the Veterans Health Administration, will be able to start receiving hospital care and medical services under the Program no later than December 5, 2014. In § 17.1525(b), VA stated that if the start date for these veterans would be sooner than December 5, 2014, VA would publish a notice in the Federal Register advising the public of the faster implementation schedule. This Notice announces that November 17, 2014, is the start date for veterans eligible to participate in the Program under § 17.1510(b)(1).

VA was directed to establish the Program to furnish hospital care and medical services through non-VA health care entities and providers to Veterans who either cannot be seen within the “wait-time goals of the Veterans Health Administration” or who qualify based on their place of residence. VA established this Program through an interim final rule published in the Federal Register on November 5, 2014. 79 FR 65571. This rulemaking created new regulations at 38 CFR 17.1500 through 17.1540 governing the Program. Section 17.1525 identified the start date for veterans to participate in the Program in relation to their basis of eligibility for the Program. Specifically, VA stated in section 17.1525(a)(1) that VA would begin furnishing hospital care and medical services under the Program to veterans whose eligibility was based on their place of residence, as defined in section 17.1510(b)(2) through (b)(4), on November 5, 2014. We also stated that VA would begin furnishing such care and services to veterans who are eligible for the Program under § 17.1510(b)(1) based on being unable to be seen within the wait-time goals of the Veterans Health Administration no later than December 5, 2014, under § 17.1525(a)(2). As explained in the supplementary information of the rulemaking, VA adopted this phased approach to implementation to ensure that we have the resources in place to support care for eligible veterans. We selected veterans eligible to participate based on their place of residence for the earlier start date because this population was more easily identified and less subject to change over time than those whose eligibility is based on being unable to be seen within the wait-time goals of the Veterans Health Administration.

Section 17.1525(b) specifies that if the start date would be earlier than December 5, 2014, for veterans whose eligibility is based on being unable to be seen within the wait-time goals of the Veterans Health Administration, then VA would notify the public by publishing a Notice of that start date in the Federal Register. VA has put in place the necessary resources to accommodate this population, and effective November 17, 2014, VA began making the Program available to these veterans.

Signing Authority

The Secretary of Veterans Affairs, or designee, approved this document and authorized the undersigned to sign and submit the document to the Office of the Federal Register for publication electronically as an official document of the Department of Veterans Affairs. Jose D. Riojas, Chief of Staff, Department of Veterans Affairs, approved this document on November 17, 2014, for publication.

Dated: November 18, 2014.
William F. Russo,
Acting Director, Office of Regulation Policy & Management, Office of the General Counsel, Department of Veterans Affairs.

[FR Doc. 2014-27581 Filed 11-20-14; 8:45 am]

BILLING CODE 8320-01-P